DEPARTMENT OF TRANSPORTATION

Federal Highway Administration

Environmental Impact Statement: Henderson and Buncombe Counties, NC

AGENCY: Federal Highway Administration (FHWA), DOT.

ACTION: Notice of Intent.

SUMMARY: The FHWA is issuing this notice to advice the public that an Environmental Impact Statement (EIS) will be prepared for a multi-land widening of I-26 between NC 225 and I-40 in Asheville in Buncombe and Henderson Counties, North Carolina (TIP Projects I-4400 & I-4700).

FOR FURTHER INFORMATION CONTACT: Clarence W. Coleman, PE, Operations Engineer, Federal Highway Administration, 310 New Bern Avenue, Suite 410, Raleigh, North Carolina 27601-1418, Telephone: (919) 856-4350, extension 133 or Joseph S. Qubain, Project Manager, North Carolina Department of Transportation (NCDOT), 1548 Mail Service Center, Raleigh, North Carolina 27699-1548, Telephone: (919) 733-7844, extension 209.

SUPPLEMENTARY INFORMATION: The FHWA, in cooperation with the NCDOT, will prepare an EIS on a proposal to widen I-26 between NC 255 south of Hendersonville and I-40 near Asheville in Buncombe and Henderson Counties, North Carolina. The proposed project would be approximately 22.2 miles in length.

Improvements to the corridor are considered necessary to relieve forecasted congestion along the I-26 corridor. Alternatives under consideration include: (1) Taking no action; (2) Transportation Systems Management/Travel Demand Management (TSM/TDM) that incorporates operational improvements and demand mitigation programs and initiatives to meet the transportation demand within the I-26 corridor; and (3) a multi-lane widening of I-26 within the existing right-of-way that includes rehabilitation and widening of existing bridge structures within the project limits, including the Blue Ridge Parkway structure over I-26. The EIS will also include a regional cumulative impact study for the I-26 corridor.

To ensure that the full range of issues related to this proposed action is addressed and all significant issues are identified, comments and suggestions are invited from all interested parties. Comments or questions concerning this proposed action, the EIS and the cumulative impact study should be directed to the FHWA at the address provided above.

Issued on: June 1, 2006.
Thomas D. Riggsbee,
Area Engineer, Raleigh, North Carolina.

[FR Doc. 06-5201 Filed 6-5-06; 9:14 am]

BILLING CODE 4910-22-M